DEPARTMENT OF DEFENSE

Department of the Army; Corps of Engineers

Intent to Prepare an Environmental Impact Statement for the Conveyance of Federal Lands at Lake Texoma to the City of Denison, Grayson County, TX

AGENCY: Department of the Army, U.S. Army Corps of Engineers, DoD.

ACTION: Notice of intent.

SUMMARY: The purpose of the Environmental Impact Statement (EIS) is to address alternatives and environmental impacts associated with the conveyance of approximately 900 acres of Federal land at Lake Texoma, Oklahoma and Texas, to the city of Denison, TX.

ADDRESSES: Questions or comments concerning the proposed action should be addressed to Mr. Stephen L. Nolen, Chief, Environmental Analysis and Compliance Branch, Tulsa District, U.S. Army Corps of Engineers, CESWT-PE-E, 1645 S. 101st E. Ave., Tulsa, OK 74128-4629.

FOR FURTHER INFORMATION CONTACT: Mr. Stephen L. Nolen, (918) 669-7660, fax: (918) 669-7546, e-mail: Stephen.L.Nolen@usace.army.mil.

SUPPLEMENTARY INFORMATION: Section 3182 of the Water Resources Development Act of 2007 (Pub. L. 110-114) directed the Secretary of the Army (Secretary) to offer to convey, at fair market value to the city of Denison, TX, all right, title and interest of the United States in and to approximately 900 acres of land located in Grayson County, TX. The exact acreage and description of the real property will be determined by a survey that is satisfactory to the Secretary and the property conveyed by quitclaim deed. The real property is currently held in fee by the U.S. Government and managed by the Tulsa District Corps of Engineers as a part of Lake Texoma, a multipurpose reservoir located along the Red River in Oklahoma and Texas. The lands subject to this action are located along the eastern shore of the Little Mineral Arm of Lake Texoma in Grayson County, TX. Upon receipt of title to the property, the City of Denison intends to develop the area, in conjunction with development of adjacent private lands, to include such features as single and multi-family residential housing, hotel and conference facilities, golf course(s), retail and commercial space, office and light industry, public boat ramp(s), beach and yacht clubs, and related commercial development facilities.

Reasonable alternatives to be considered include varying amounts of acreages to be conveyed, alternative deed restrictions on conveyed lands, varying development features and locations, alternative locations and nature of shoreline development, and no action.

Issues to be addressed in the EIS include but are not limited to: (1) Socioeconomic impacts associated with planned development, (2) matters pertaining to shoreline management and potential changes to the Lake Texoma shoreline management plan in the immediate area of the conveyance, (3) potential impacts to cultural and ecological resources, (4) public access and safety, (5) impacts to lake use and recreation, (6) aesthetics, (7) water and wastewater infrastructure, (8) lake water quality, (9) traffic patterns, (10) terrestrial and aquatic fish and wildlife habitat, (11) Federally-listed threatened and endangered species, and (12) cumulative impacts associated with past, current, and reasonably foreseeable future actions at Lake Texoma.

A public scoping meeting for the action will be conducted in early fall, 2008 in Denison, TX. News releases and notices informing the public and local, state, and Federal agencies of the proposed action and date of the public scoping meeting will be published in local newspapers. Comments received as a result of this notice, news releases, and the public scoping meeting will be used to assist the Tulsa District Corps of Engineers in identifying potential impacts to the quality of the human or natural environment. Affected Federal, state, or local agencies, affected Indian tribes, and other interested private organizations and parties are encouraged to participate in the scoping process by forwarding written comments to (see ADDRESSES) or attending the scoping meeting.

The draft EIS will be available for public review and comment. While the specific date for release of the draft EIS has yet to be determined, all interested agencies, tribes, organizations and parties expressing an interest in this action will be placed on a mailing list for receipt of the draft EIS. In order to be considered, any comments and suggestions should be forwarded to (see ADDRESSES) in accordance with dates specified upon release of the draft EIS.

Dated: July 28, 2008.
Anthony C. Funkhouser,
Colonel, U.S. Army, District Commander.

[FR Doc. E8-18017 Filed 8-5-08; 8:45 am]

BILLING CODE 3710-39-P